DEPARTMENT OF AGRICULTURE

Agricultural Marketing Service

7 CFR Part 991

[Docket No. AO-F&V-991-A3; FV03-991-01]

Hops Produced in Washington, Oregon, Idaho and California; Notice of Rescheduling of Hearing on Proposed Marketing Agreement and Order No. 991 and Additional Proposal

AGENCY: Agricultural Marketing Service, USDA.

ACTION: Notice of rescheduling of public hearing on proposed marketing agreement and order.

SUMMARY: Notice is hereby given of a rescheduling of a public hearing to consider a proposed marketing agreement and order under the Agricultural Marketing Agreement Act of 1937 to cover hops grown in Washington, Oregon, Idaho and California. The hearing was originally scheduled to begin August 14, 2003, and a notice of hearing was announced in the Federal Register on Monday, July 28, 2003, at 68 FR 44244. A notice of postponement of the public hearing was announced in the Federal Register on Thursday, August 14, 2003, at 68 FR 48575.

DATES: The hearing will be held on October 15 and 16 in Portland, Oregon, and continue, if necessary, on October 17 in Portland, Oregon. The hearing will resume on October 20 and 21 in Yakima, Washington, and continue, if necessary, on October 22 through 24 in Yakima, Washington. The first day of the hearing will begin at 8:30 a.m. in Portland, Oregon and the first day of the hearing will begin at 8:30 a.m in Yakima, Washington.

ADDRESSES: The hearing locations are: October 15 and 16, 2003 (and October 17, if necessary)—Sheraton Portland Airport Hotel, 8235 NE Airport Way, Portland, Oregon 97220: October 20 and 21 (and October 22, 23, and 24, if necessary)—Doubletree Hotel Yakima Valley, 1507 N. First Street, Yakima, Washington 98901.

FOR FURTHER INFORMATION CONTACT: Barry Broadbent, Marketing Specialist, Marketing Order Administration Branch, Fruit and Vegetable Programs, AMS, USDA, Northwest Marketing Field Office, 1220 SW. Third Avenue, suite 385, Portland, Oregon 97204; telephone (503) 326-2724 or Fax (503) 326-7440; or Kathleen M. Finn, Marketing Order Administration Branch, Fruit and Vegetable Programs, AMS, USDA, 1400 Independence Avenue SW., Stop 0237, Washington, DC 20250-0237; telephone: (202) 720-2491, fax: (202) 720-8938.

SUPPLEMENTARY INFORMATION: The Notice of Hearing was published in the Federal Register on July 28, 2003 (68 FR 44244) and the proposals that will be considered at the hearing can be found there. In addition, the following proposal, which was submitted by John F. Annen prior to the deadline, will also be considered at the hearing:

Proposal submitted by John F. Annen, President, Annen Bros., Inc.

Proposal Number 10

Delete §§ 991.50 through 991.58 from the Hop Marketing Order Proponent Committee's proposal.

Authority: 7 U.S.C. 601-674.

Dated: September 3, 2003.
A. J. Yates,
Administrator, Agricultural Marketing Service.

[FR Doc. 03-22754 Filed 9-5-03; 8:45 am]

BILLING CODE 3410-02-P